DEPARTMENT OF HOMELAND SECURITY

Coast Guard

33 CFR Part 117

[CGD01-04-047]

Drawbridge Operation Regulations: Long Island, New York Inland Waterway From East Rockaway Inlet to Shinnecock Canal, NY

AGENCY: Coast Guard, DHS.

ACTION: Notice of temporary deviation; request for comments.

SUMMARY: The Commander, First Coast Guard District, has issued a temporary deviation from the drawbridge operation regulations governing the operation of the Long Beach Bridge, at mile 4.7, across Reynolds Channel New York. This temporary deviation will test a change to the drawbridge operation regulations to determine whether a permanent change is needed. Under this temporary deviation the Long Beach Bridge need not open for vessel traffic from 10 p.m. to midnight on July 3, 2004.

DATES: This temporary deviation is effective from July 3, 2004, through July 11, 2004. Comments must reach the Coast Guard on or before September 4, 2004.

ADDRESSES: You may mail comments to Commander (obr), First Coast Guard District Bridge Branch at one South Street, Battery Park Building, New York, NY 10004, or deliver them to the same address between 7 a.m. and 4 p.m., Monday through Friday, except Federal holidays. The telephone number is (212) 668-7165. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: Joe Arca, Project Officer, First Coast Guard District, at (212) 668-7069.

SUPPLEMENTARY INFORMATION:

Request for Comments

We encourage you to participate in this rulemaking by submitting comments or related material. If you do so, please include your name and address, identify the docket number for this rulemaking (CGD01-04-047), indicate the specific section of this document to which each comment applies, and give the reason for each comment. Please submit all comments and related material in an unbound format, no larger than 8½ by 11 inches, suitable for copying. If you would like to know if they reached us, please enclose a stamped, self-addressed postcard or envelope. We will consider all comments and material received during the comment period. Comments must be received by September 4, 2004.

Background and Purpose

The Long Beach Bridge has a vertical clearance of 20 feet at mean high water and 24 feet at mean low water. The existing regulations are listed at 33 CFR 117.799(g).

On April 27, 2004, the Town of Hempstead, Department of Public Works requested that the Long Beach Bridge opening schedule be temporarily changed to test an alternate operation schedule to allow the bridge to remain closed to facilitate vehicular traffic and public safety during the annual Salute to Veterans and Fireworks Display at Town Park on Lookout Point, New York.

Under this temporary deviation the Long Beach Bridge need not open for vessel traffic from 10 p.m. to midnight on July 3, 2004, with an alternate weather date of July 11, 2004, should the public event be postponed due to inclement weather on July 3, 2004.

This deviation from the operating regulations is authorized under 33 CFR 117.43, to test an alternate operating schedule.

Dated: May 21, 2004.
John L. Grenier,
Captain, U.S. Coast Guard, Acting Commander, First Coast Guard District.

[FR Doc. 04-12407 Filed 6-1-04; 8:45 am]

BILLING CODE 4910-15-P